DEPARTMENT OF ENERGY

Federal Energy Regulatory Commission

Sunshine Act Meeting

July 12, 2007.

The following notice of meeting is published pursuant to section 3(a) of the government in the Sunshine Act (Pub. L. 94-409), 5 U.S.C 552b:

Agency Holding Meeting: Federal Energy Regulatory Commission.

Date and Time: July 19, 2007, 10 a.m.

Place: Room 2C, 888 First Street, NE., Washington, DC 20426.

Status: Open.

Matters To Be Considered: Agenda.

*Note— Items listed on the agenda may be deleted without further notice.

FOR FURTHER INFORMATION CONTACT: Kimberly D. Bose, Secretary, Telephone (202) 502-8400. For a recorded message listing items, struck from or added to the meeting, call (202) 502-8627.

This is a list of matters to be considered by the Commission. It does not include a listing of all documents relevant to the items on the agenda. All public documents, however, may be viewed on line at the Commission's Web site at: http://www.ferc.gov using the eLibrary link, or may be examined in the Commission's Public Reference Room.

921st—Meeting; Regular Meeting
[July 19, 2007, 10 a.m.]
Item No. | Docket No. | Company
Administrative
A-1 | AD02-1-000 | Agency Administrative Matters.
A-2 | AD02-7-000 | Customer Matters, Reliability, Security and Market Operations.
A-3 | AD06-3-000 | Energy Market Update.
Electric
E-1 | PL07-1-000 | FPA Section 203 Supplemental Policy Statement.
E-2 | RM07-15-000 | Cross-Subsidization Restrictions on Affiliate Transactions.
E-3 | RM07-21-000 | Blanket Authorization Under FPA Section 203.
E-4 | RM06-22-000 | Mandatory Reliability Standards for Critical Infrastructure Protection.
E-5 | RM06-16-003 | Mandatory Reliability Standards for the Bulk-Power System.
E-6 | RM06-16-001 | Mandatory Reliability Standards for the Bulk-Power System.
E-7 | Omitted.
E-8 | Omitted.
E-9 | ER07-577-000, ER07-577-001, EL07-79-000 | Midwest Independent Transmission System Operator, Inc.
E-10 | ER06-18-007, ER06-18-008 | Midwest Independent Transmission System Operator, Inc.
E-11 | Omitted.
E-12 | ER06-185-008 | New York Independent System Operator, Inc.
E-13 | ER02-2560-007 | Louisville Gas & Electric Company and Kentucky Utilities Company.
E-14 | EC07-66-000, EC07-66-001, EL07-45-000, EL07-45-001 | Entergy Gulf States, Inc., Entergy Gulf States Louisiana, L.L.C., Entergy Texas, Inc.
| EC07-88-000 | Entergy Gulf States, Inc., Entergy Gulf States Louisiana, L.L.C., Entergy Texas, Inc.
E-15 | EL05-19-002 | Golden Spread Electric Cooperative, Inc., Lyntegar Electric Cooperative, Inc., Farmers' Electric Cooperative, Inc., Lea County Electric Cooperative, Inc., Central Valley Electric Cooperative, Inc. and Roosevelt County Electric Cooperative, Inc. v. Southwestern Public Service Company.
| ER05-168-001 | Southwestern Public Service Company.
E-16 | EL07-16-001 | Long Island Power Authority v. New York Independent System Operator, Inc.
E-17 | EL04-49-001 | Quachita Power, LLC v. Entergy Louisiana, Inc. and Entergy Services, Inc.
Miscellaneous
M-1 | RM07-16-000 | Filing Via the Internet.
Gas
G-1 | PL07-2-000 | Composition of Proxy Groups for Determining Gas and Oil Pipeline Return on Equity.
G-2 | Omitted.
G-3 | IN07-7-001, IN07-18-001 | Nornew Energy Supply, Inc.
G-4 | CP05-150-005, CP05-150-006 | Hardy Storage Company, LLC.
G-5 | Omitted.
G-6 | RP06-408-000 | Reliant Energy Service, Inc. and CenterPoint Energy Resources Corp. v. Kern River Gas Transmission Company.
G-7 | RP07-139-000, RP07-139-001 | Algonquin Gas Transmission, LLC.
G-8 | RP07-149-000 | Gulf South Pipeline Company.
G-9 | OR07-10-000 | Calnev Pipe Line LLC.
G-10 | OR07-5-000 | ExxonMobil Oil Corporation v. Calnev Pipe Line, L.L.C., Kinder Morgan GP Inc. and Kinder Morgan Inc.
| OR07-7-000, OR07-7-001 | Tesoro Refining and Marketing Company v. Calnev Pipe Line, L.L.C.
Hydro
H-1 | P-2602-005, P-2602-007 | Duke Energy Carolinas, LLC.
H-2 | P-12685-000 | Don L. Hansen.
H-3 | P-2426-204 | California Department of Water Resources and the City of Los Angeles.
Certificates
C-1 | CP07-98-000 | Southern Natural Gas Company.
C-2 | CP07-101-000 | National Fuel Gas Supply Corporation.
C-3 | CP06-335-002, CP96-810-008 | Maritimes & Northeast Pipeline, L.L.C.

A free webcast of this event is available through http://www.ferc.gov. Anyone with Internet access who desires to view this event can do so by navigating to: http://www.ferc.gov' s Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. E7-13850 Filed 7-17-07; 8:45 am]

BILLING CODE 6717-01-P